DEPARTMENT OF HEALTH AND HUMAN SERVICES

Centers for Disease Control and Prevention

Request for Nominations of Potential Reviewers To Serve on the Disease, Disability, and Injury Prevention and Control Special Emphasis Panel (SEP)

The Centers for Disease Control and Prevention (CDC) is soliciting nominations for possible membership on the Disease, Disability, and Injury Prevention and Control Special Emphasis Panel (SEP) in the National Center for Injury Prevention and Control (NCIPC).

The Disease, Disability, and Injury Prevention and Control Special Emphasis Panel provides advice and guidance to the Secretary, Department of Health and Human Services (HHS); the Director, Centers for Disease Control and Prevention (CDC), and the Administrator, Agency for Toxic Substances and Disease Registry (ATSDR) regarding the concept review, scientific and technical merit of grant and cooperative agreement assistance applications, and contract proposals relating to the causes, prevention, and control of diseases, disabilities, injuries, and impairments of public health significance; exposure to hazardous substances in the environment; health promotion and education; and other related activities that promote health and well-being.

Nominations are being sought for individuals who have expertise and qualifications necessary to contribute to the accomplishment of NCIPC SEP objectives. Reviewers with expertise in the following research fields for injury and violence prevention are sought to serve on the NCIPC SEPs, for research and evaluation related, but not limited to: Child abuse and neglect, prescription drug overdose, intimate partner violence, motor vehicle injury, older adult falls, self-directed violence, sexual violence, traumatic brain injury, youth sports concussion, and youth violence. Reviewers with expertise in the following methodological fields for injury and violence prevention are also sought to serve on the CDC SEP for NCIPC programs: economic evaluation, etiology, implementation and translation, intervention research, policy evaluation, program evaluation, qualitative research design, quantitative research design, statistics, and surveillance.

Members and Chairs shall be selected by the Secretary, HHS, or other official to whom the authority has been delegated, on an “as needed” basis in response to specific applications being reviewed with expertise to provide advice. Members will be selected from authorities in the various fields of prevention and control of diseases, disabilities, and injuries. Members of other chartered HHS advisory committees may serve on the panel if their expertise is required. Consideration is given to professional training and background, points of view represented, and upcoming applications to be reviewed by the committee.

Information about nominated potential reviewers will be maintained in the NCIPC Reviewer and Advisor Database. The work of reviewers' appointed to NCIPC SEPS includes the initial review, discussion, and written critique and evaluation of applications. This work will enable the CDC/NCIPC to fulfill its mission of funding meritorious research that provides vital knowledge about underlying risk and protective factors and strategies for violence and injury prevention http://www.cdc.gov/injury/index.html.

The U.S. Department of Health and Human Services policy stipulates that committee membership be balanced in terms of points of view represented and the committee's function. Appointments shall be made without discrimination on the basis of age, race, ethnicity, gender, sexual orientation, gender identity, HIV status, disability, and cultural, religious, or socioeconomic status. Nominees must be U.S. citizens appointed to serve on a CDC SEP and can be full-time employees of the U.S. Government. Current participation on CDC federal workgroups or prior experience serving on another federal advisory committee does not disqualify a reviewer, except for service on the Board of Scientific Counselors, NCIPC. However, HHS policy is to avoid excessive individual service on advisory committees and multiple committee memberships. Reviewers appointed to the SEP, CDC are not considered Special Government Employees, and will not be required to file financial disclosure reports.

Nominees interested in serving as a potential reviewer on a SEP, CDC for NCIPC programs should submit the following items:

• Current curriculum vitae, including complete contact information (name, affiliation, mailing address, telephone number, and email address).

Nomination materials must be postmarked by March 31, 2017 and sent by U.S. mail to: NCIPC Extramural Research Program Office (ERPO): Centers for Disease Control and Prevention, 1600 Clifton Road NE., Mailstop F-63, Atlanta, Georgia 30329 or to the ERPO Mailbox NCIPC_ERPO@cdc.gov.

The Director, Management Analysis and Services Office, has been delegated the authority to sign Federal Register notices pertaining to announcements of meetings and other committee management activities for both the Centers for Disease Control and Prevention and the Agency for Toxic Substances and Disease Registry.

Elaine L. Baker,
Director, Management Analysis and Services Office, Centers for Disease Control and Prevention.

[FR Doc. 2016-28207 Filed 11-22-16; 8:45 am]

BILLING CODE 4163-18-P